DEPARTMENT OF JUSTICE

Notice of Lodging of Proposed Consent Decree Under the Clean Water Act

On June 9, 2021, the Department of Justice lodged a proposed Consent Decree with the United States District Court for the District of Massachusetts in the lawsuit entitled United States of America v. City of Quincy, Massachusetts, Civil Action No. 1:19-cv-10483-RGS.

The United States filed a Complaint against the City of Quincy, Massachusetts (“City”) on March 14, 2019, alleging violations of the Clean Water Act. The Complaint alleged that sewage in the City's sanitary sewer system had leaked from the sanitary system and entered the separate storm sewer system, ultimately discharging with storm water into Quincy Bay and other receiving waters. The Complaint also alleged that the City's sanitary sewer system had overflowed on numerous occasions, resulting in discharges of sewage. The Consent Decree calls for the City to implement a comprehensive and integrated program to investigate, repair, and rehabilitate its stormwater and sanitary sewer systems, with all investigations and remedial work completed by December 31, 2034. The City will also pay a $115,000 penalty.

The publication of this notice opens a period for public comment on the Consent Decree. Comments should be addressed to the Assistant Attorney General, Environment and Natural Resources Division, and should refer to United States v. City of Quincy, D.J. Ref. No. 90-5-1-1-11446. All comments must be submitted no later than thirty (30) days after the publication date of this notice.

Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611. Please enclose a check or money order for $17.25 for a copy of the Consent Decree without the appendices or for $58.25 for a copy of the Consent Decree with appendices (25 cents per page reproduction cost) payable to the United States Treasury.

Henry Friedman,
Assistant Section Chief, Environmental Enforcement Section, Environment and Natural Resources Division.

[FR Doc. 2021-12577 Filed 6-15-21; 8:45 am]

BILLING CODE 4410-15-P